CENTRAL INTELLIGENCE AGENCY

Notice of Decennial Review of Operational Files Designations

AGENCY: Central Intelligence Agency.

Authority: 50 U.S.C 3141

SUMMARY: The Central Intelligence Agency (CIA or Agency) is soliciting comments regarding the historical value of, or other public interest in, the CIA files designated by the Director of the Central Intelligence Agency (DCIA) pursuant to the CIA Information Act of 1984.

DATES: Comments must be received by 1 May 2015.

ADDRESSES: Submit comments in writing to Joseph W. Lambert, Director, Information Management Services, Central Intelligence Agency, Washington, DC 20505, or by fax to (703) 613-3020.

FOR FURTHER INFORMATION CONTACT: Joseph W. Lambert, Director, Information Management Services, Central Intelligence Agency, telephone 703-613-1379.

Text

The CIA Information Act of 1984, codified in section 3141 of title 50 of the United States Code, authorizes the DCIA to exempt operational files of the CIA from the publication, disclosure, search, and review provisions of the Freedom of Information Act. The statute defines operational files as:

1. Files of the National Clandestine Service that document the conduct of foreign intelligence or counterintelligence operations or intelligence or security liaison arrangements or information exchanges with foreign governments or their intelligence or security services;

2. Files of the Directorate of Science and Technology that document the means by which foreign intelligence or counterintelligence is collected through scientific and technical systems; and

3. Files of the Office of Security that document investigations conducted to determine the suitability of potential foreign intelligence or counterintelligence sources; except that files that are the sole repository of disseminated intelligence are not operational files.

The CIA Information Act of 1984 requires that, not less than once every ten years, the DCIA shall review the exemptions in force to determine whether such exemptions may be removed from any category of exempted files or any portion thereof. The last review was completed in April 2005. The following represents a summary of the general categories of operational files that have been maintained within the National Clandestine Service, the Directorate of Science and Technology, and the Office of Security since the first decennial review:

1. Files of the National Clandestine Service that document the intelligence sources and methods associated with various operational and foreign liaison activities, that document the conduct and management of various operational and foreign liaison activities, and that document the assessment of the viability of potential operational and foreign liaison activities and potential intelligence sources and methods;

2. Files of the Directorate of Science and Technology that document the use of scientific and technical systems in the conduct of and in support of various operational and intelligence collection activities;

3. Files of the Office of Security that document various aspects of the investigations conducted to determine the suitability of potential foreign intelligence or counterintelligence sources proposed for use in various operational activities.

The CIA is in the process of conducting the 2015 decennial review of its operational files to determine whether any of the previously designated files, or portions thereof, can be removed from any of the specified categories of exempted files. The CIA Information Act of 1984 requires that the decennial review “include consideration of the historical value or other public interest in the subject matter of the particular category of files or portions thereof and the potential for declassifying a significant part of the information contained therein.” In accordance with this requirement, the CIA hereby solicits comments for the DCIA's consideration during the decennial review of the CIA's operational files regarding the historical value of, or other public interest in, the subject matter of these particular categories of files or portions thereof described above and the relationship of that historical value or other public interest to the removal of previously designated files or any portions thereof from such a classification.

Dated: April 15, 2015.
Joseph W. Lambert,
Director, Information Management Services, CIA.

[FR Doc. 2015-09022 Filed 4-17-15; 8:45 am]

BILLING CODE 6310-02-P